DEPARTMENT OF COMMERCE

Patent and Trademark Office

37 CFR Part 42

[Docket No. PTO-P-2015-0053]

RIN 0651-AD01

Amendments to the Rules of Practice for Trials Before the Patent Trial and Appeal Board; Correction

AGENCY: United States Patent and Trademark Office, Commerce.

ACTION: Final rule; correction.

SUMMARY: The United States Patent and Trademark Office (Office) published a final rule in the Federal Register on April 1, 2016, revising the rules related to trial practice for inter partes review, post-grant review, the transitional program for covered business method patents, and derivation proceedings that implemented provisions of the Leahy-Smith America Invents Act (“AIA”) providing for trials before the Office. This document corrects an error in that final rule.

DATES: Effective Date: This rule is effective May 2, 2016 and applies to all AIA petitions filed on or after the effective date and to any ongoing AIA preliminary proceeding or trial before the Office.

FOR FURTHER INFORMATION CONTACT: Susan L. C. Mitchell, Lead Administrative Patent Judge, by telephone at (571) 272-9797.

SUPPLEMENTARY INFORMATION: The Office published a final rule in the Federal Register on April 1, 2016 (81 FR 18750), entitled “Amendments to the Rules of Practice for Trials Before the Patent Trial and Appeal Board.” This document corrects an error in § 42.24(a)(1).

The second sentence of § 42.24(a)(1) should state that the word count or page limit does not include a table of contents, a table of authorities, mandatory notices under § 42.8, a certificate of service or word count, or appendix of exhibits or claim listing. The reference to “grounds for standing under § 42.104, § 42.204, or § 42.304” was inadvertently included as administrative items, such as mandatory notices, and in the related discussion in the preamble on pages 18762 and 18763 of the final rule published on April 1, 2016 (81 FR 18750). This correction removes that reference from § 42.24(a)(1).

In rule FR Doc. 2016-07381, published on April 1, 2016 (81 FR 18750), make the following correction:

§ 42.24 [Correction]

1. On page 18765, in the second column, in paragraph (a)(1) of § 42.24, correct the second sentence by removing “grounds for standing under § 42.104, § 42.204, or § 42.304,”.

Dated: April 21, 2016.
Michelle K. Lee,
Under Secretary of Commerce for Intellectual Property and Director of the United States Patent and Trademark Office.

[FR Doc. 2016-09814 Filed 4-26-16; 8:45 am]

BILLING CODE 3510-16-P